DEPARTMENT OF HOMELAND SECURITY

[Docket Number DHS-2014-0042]

Environmental Planning and Historic Preservation Program

AGENCY: Department of Homeland Security.

ACTION: Notice of Programmatic Environmental Assessment and Finding of No Significant Impact for departmental actions to address the increased influx of unaccompanied children and families across the southwest border of the United States.

SUMMARY: Notice is hereby given that the Department of Homeland Security (DHS or Department) has prepared a Programmatic Environmental Assessment (PEA) and Finding of No Significant Impact (FONSI) for actions to address the influx of unaccompanied alien children and families across the southwest border of the United States. The PEA was prepared pursuant to the National Environmental Policy Act (NEPA) of 1969 (42 U.S.C. 4321 et seq.), the Council on Environmental Quality Regulations for implementing the procedural provisions of NEPA (40 CFR Parts 1500-1508), and the Department's NEPA procedures (Directive 023-01, Environmental Planning Program).

DATES: The Programmatic Environmental Assessment and Finding of No Significant Impact documents are being made available for public inspection for thirty (30) days.

FOR FURTHER INFORMATION CONTACT: For NEPA-related inquires, contact: Dr. Teresa R. Pohlman, Director, Sustainability and Environmental Programs, Office of the Chief Readiness Support Officer, Management Directorate, Department of Homeland Security by any of the following means: By mail to 245 Murray Lane SW., Mail Stop 0075, Washington, DC 20528-0075; by calling 202-343-4051; or by emailing SEP-EPHP@hq.dhs.gov. Media inquiries regarding the DHS response to and operations regarding the influx of unaccompanied alien children and families may be emailed to the DHS Office of Public Affairs at mediainquiry@dhs.gov. For further information on the DHS response to the humanitarian situation, visit www.dhs.gov/uac.

SUPPLEMENTARY INFORMATION: The June 2, 2014, Presidential Memorandum Response to the Influx of Unaccompanied Alien Children Across the Southwest Border directed the Secretary of the Department of Homeland Security to establish an interagency Unified Coordination Group to ensure unity of effort across the executive branch in responding to the humanitarian aspects of the situation, consistent with the Homeland Security Act of 2002 and Homeland Security Presidential Directive-5 (Management of Domestic Incidents), including coordination with State, local, and other nonfederal entities. In addition to the influx of unaccompanied alien children, there is also an increase in the number of family units entering the United States.

The Department of Homeland Security (DHS) is responsible for the apprehension, processing, detention, and removal of such persons crossing the southwest border into the United States without authorization. The increased influx in the number of apprehended persons has the potential to fill or exceed the capacity of the DHS support resources and infrastructure (real property for processing and housing apprehended persons, services including medical care, transportation, utilities, meals, hygiene, recreation, etc.) currently available.

The purpose of the Proposed Action is to implement the DHS response to the influx of unaccompanied alien children and family units entering the United States across the southwest border, and to identify a process for efficient and effective environmental review for action(s) subject to NEPA.

The need for the Proposed Action is based on the existing and expected increase in the number of apprehended persons being processed that may exceed the then current capacity of the DHS support resources and infrastructure. In addition, the need for the proposed action is to meet the requirements in the June 2, 2014 Presidential Memorandum to address the humanitarian situation.

The PEA evaluated two alternatives: the No Action Alternative and the Proposed Action Alternative. Under the Proposed Action Alternative, DHS proposes to increase, in accelerated fashion, its capacity for managing unaccompanied alien children and family units crossing the southwest border of the United States until said persons can have their status determined or, in the case of unaccompanied alien children, can be transferred to the Department of Health and Human Services. Increased DHS capacity is needed in the following areas: temporary detention space and housing, transportation, childcare, and medical care.

Under the No Action Alternative, no additional facilities and services would be acquired in an accelerated fashion. Unaccompanied alien children and family units would be detained in custody for unacceptable lengths of time in overcrowded and potentially unsafe and unhealthy conditions which do not meet standards acceptable to the United States. Because of the potential for adverse impacts to human health and safety if there is no accelerated increase in facilities and services to address the influx of unaccompanied alien children and family units, the No-Action Alternative is not viable.

The PEA and FONSI are available on the internet at www.dhs.gov/nepa and www.regulations.gov (Docket Number DHS-2014-0042).

Dated: August 7, 2014,
Teresa R. Pohlman,
Director of Sustainability and Environmental Programs.

[FR Doc. 2014-19209 Filed 8-13-14; 8:45 am]

BILLING CODE 9110-9B-P